FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities | Trans No. | Acquriring | Acquired | Entities
Transactions Granted Early Termination—09/18/2000
20004705 | August Capital III, L.P. | Seagate Technology, Inc | Seagate Technology, Inc.
20004778 | Genlyte Group Inc. (The) | Chloride Group PLC | Chloride Power Electronics, Inc.
20004843 | Pegusus Partners II, L.P | Paperloop.com, Inc | Paperloop.com, Inc
20004844 | United News & Media plc | Paperloop.com, Inc | Paperloop.com, Inc.
20004871 | TNT Post Group N.V | CSX Corporation | CTI Logistix, Inc.
20004896 | Steven M. Scott, M.C | HIP Foundation, Inc | HIP Health Plan of Florida, Inc., HIP Insurance Company of Florida, Inc.
20004900 | The Cirrus Trust | Robert L. Brown | Employee Management Services II, Inc., Employee Management Services III, Inc., Robert Lee Brown, Inc.
20004905 | Gerald W. Schwartz | LBI Holdings, Inc | LBI Holdings, Inc.
Transactions Granted Early Termination—09/19/2000
20004847 | Whitehall Street Real Estate Fund XIII, L.P | ixPedite Communications, Inc | ixPedite Communications, Inc.
20004851 | Apollo Investment Fund IV, L.P | Horizon Telecom, Inc | Horizon PCS, Inc.
20004858 | Adobe Systems Incorporated | Hewlett-Packard Company | Glassbook, Inc.
20004862 | Caraustar Industries, Inc | Crane Carton Company LLC | Crane Carton Company LLC
20004865 | Paxton Media Group, Inc | John W. Troutt, Jr | Troutt Brothers, Inc.
20004866 | Ford Motor Company | Alfa, S.V. de C.V | Tenedora Nemak S.A. de C.V.
20004872 | Dover Corporation | Sangyup Steve Lee | National Cooler Corporation.
20004878 | Sara Lee Corporation | Host Apparel, Inc | Host Apparel, Inc
20004887 | Copart, Inc | Charles H. Powers | Charles H. Powers
20004888 | DLJ Merchant Banking Partners III, L.P | Hellman & Friedman Capital Partners III, L.P | Advanstar, Inc.
20004895 | Foreset Laboratories, Inc | Luca & Lucio Rovati | Rotta Research Laboratorium.
20004898 | Ohio Farmers Insurance Company | Old Guard Group, Inc | Old Guard Group, Inc.
20004899 | Clear Channel Communications, Inc | Cumulus Media, Inc | Cumulus Media, Inc.
20004901 | Donald B. Marron | UBS AG | UBS AG.
20004904 | Joseph J. Grano, Jr | UBS AG | UBS AG.
20004958 | Bain Capital Fund VII, L.P | Westpoint Stevens, Inc | Westpoint Stevens, Inc.
Transactions Granted Early Termination—09/20/2000
20004706 | Halliburton Company | Petroleum Place, Inc | Petroleum Place, Inc.
20004736 | CFW Communications Company | R&B Communications Inc | R&B Communications Inc.
20004758 | Centennial Fund IV, L.P | Grande Communications, Inc | Grande Communications, Inc.
20004798 | Adelphia Communications Corporation | Andre' Chagnon | OpTel Inc. (debtor-in-possession), Richey Pacific Cable Partners V, L.P. (debtor-in-possession), Richey Pacific Cablevision, Inc. (debtor-in-possession), Transmission Holdings, Inc. (debtor-in-possession), TVMAX Telecommunications, Inc. (debtor-in-possession).
20004810 | Horry Telephone Cooperative, Inc | BellSouth Corporation | BellSouth Carolinas PCS, L.L.C. BellSouth Carolinas PCS, L.P.
20004873 | Dover Corporation | Chun Suk Lee | National Cooler Corporation.
20004906 | Cascades, Inc | James A. Wyant | Wyant Corporation.
20004908 | SCF-VI, L.P | Q Services, Inc | Q Services, Inc.
20004909 | American Power Conversion Corporation | Marduk Holding Corporation | Marduk Holding Corporation.
20004915 | Tysssen Krupp AG | Siemans AG | Advanced Turbine Components, Inc.
20004919 | Kjell Inge Rokke | Kjell Inge Rokke | Aker Gulf Marine.
20004924 | Palladium Equity Partners II, L.P | Whitehall Associates, L.P | WFI, Inc
20004925 | Premier Construction Products Statutory Trust | Republic Group Incorporated | Republic Group Incorporated.
20004926 | Lehman Brothers Holdings, Inc | Abraham D. Gosman | CCC of New Jersey, Inc.
Transactions Granted Early Termination—09/21/2000
20004683 | Courier Corporation | Blanche Cirker and the Estate of Hayward Cirker | Dover Book Store, Inc., Dover Publications, Inc., Transfolio Express, Inc.
20004775 | Flextronics Internatoinal Ltd | Siemens AG | Siemens Information and Communication Mobile, LLC.
20004801 | F.S. Equity Partners IV, L.P | Sur La Table, Inc | Sur La Table, Inc.
20004897 | The Liberty Corporation | The Henry/Melton Voting Trust | Civic Communications Corporation II.
20004918 | Thyssen Krupp AG | Mr. Alex Sobel | Serge Elevator Co., Inc.
20004928 | Bain Capital Fund VI, L.P | Michael D. McCreary | St. Louis T's, Inc.
20004930 | E.D. & F. Man Group Plc | Frank C. Meyer | Glenwood Capital Investments, LLC, Glenwood Global Management LLC, Glenwood Holdings, LLC.
20004931 | Gerald W. Schwartz | Bostrom plc | Bostrom plc.
20004933 | Michael L. Foster | JDS Uniphase Corporation | JDS Uniphase Corporation.
20004955 | Franz Haniel & Cie, GmbH | Bridgeway Construction Company | Bridgeway Construction Company.
Transactions Granted Early Termination—09/22/2000
20004699 | Newell Rubbermaid Inc. | The Gillette Company | Fountain Holdings Limited, Parker Pen Products, The Gillette Company, Waterman SA.
20004934 | Donald R. Scifres | JDS Uniphase Corporation | JDS Uniphase Corporation.
20004935 | David F. Welch | JDS Uniphase Corporation | JDS Uniphase Corporation.
20004936 | MediaNews Group, Inc. | Gannett Co., Inc | California Newspapers, Inc., Media West-CNI, Inc.
20004937 | iXL Enterprises, Inc | CyberStarts, Inc | CyberStarts, Inc.
20004945 | Quantum Industrial Holdings, Ltd | Silicon Access Networks, Inc | Silicon Access Networks, Inc.
Transactions Granted Early Termination—09/25/2000
20004946 | Boise Cascade Corporation | IdentityNow, Inc | IdentityNow, Inc.
20004947 | Jupiter Partners LP | IndentityNow, Inc | IndentityNow, Inc.
20004970 | Softbank Corp | Odimo Incorporated | Odimo Incorporated.
20004980 | The Chase Manhattan | First Tennessee National Corporation | First Tennessee Bank National Association.
20005038 | MBNA Corporation | First Financial Credit Union | First Financial Credit Union.
Transactions Granted Early Termination—09/26/2000
20003184 | BASF Aktiengesellschaft | Basell N.V | Basell N.V.
20003185 | N.V. Koninklijke Nederlandshe Petroleum Maatschappij | Basell N.V | Basell N.V.
20004398 | Cap Gemini S.A | Corio, Inc | Corio, Inc.
20004485 | J.R. Simplot Company | Nestle' S.A. | Nestle' USA, Inc.
20004777 | ING Groep N.V | Aetna Inc | Aetna Inc. (Financial Services and International Businesses).
20004783 | Medicis Pharmaceutical Corporation | Corixa Corporation | Corixa Corporation.
20004813 | Pacific Partners, LLC | Del Webb Corporation | Del Webb Corporation.
20004850 | GS Capital Partners 2000, L.P | ixPedite Communications, Inc | ixPedite Communications, Inc.
20004863 | Nextel Partners, Inc | Nextel Communications, Inc | Nextel Communications, Inc.
20004864 | Nextel Communications, Inc | Nextel Partners, Inc | Nextel Partners, Inc.
20004868 | Clear Channel Communications, Inc. | Randall T. Odeneal | Mississippi Valley Broadcasting, Inc.
20004869 | Clear Channel Communications, Inc. | Scott R. McQueen | Mississippi Valley Broadcasting, Inc.
20004891 | Efficient Networks, Inc | Barry McConachie | MultiMedia Development Corporation.
20004892 | Barry McConachie | Efficient Networks, Inc | Efficient Networks, Inc.
20004893 | Duane Schrodt | Efficient Networks, Inc | Efficient Networks, Inc.
20004894 | Efficient Networks, Inc | Duane Schroft | MultiMedia Development Corporation.
20004907 | Electronic Data Systems Corporation | Engineering Animation, Inc | Engineering Animation, Inc.
20004914 | TCV III (Q), L.P | YOUcentric, Inc | YOUcentric, Inc.
20004923 | Fiserv, Inc | Agio Capital Partners I, L.P | National Flood Services, Inc.
20004940 | Magnequench, Inc | Le Carbone Lorraine, S.A | Carbone Lorraine North America, Corporation, Deutsche Carbone AG, Ugimag Limited, Ugimag, Inc.
20004943 | ConAgra, Inc | John Marburger | Marburger Group, L.L.C. Marburger Packing, Inc
20004944 | ConAgra, Inc | JSM Corporation | Marburger Group, L.L.C. Marburger Packing, Inc.
20004948 | CDC Finance | Nvest Companies, L.P | Nvest Companies, L.P.
20004949 | CDC Finance | Nvest, L.P | Nvest, L.P
20004954 | Dennis Mehiel | Howard P. Hoeper | Packaging Resources Group, Inc.
20004959 | Puget Sound Energy, Inc. | Ronald A. Cindrich, Sr | General Industries, Inc.
20004964 | Paul G. Allen | eStyle, Inc | eStyle, Inc.
20004967 | Aktiebolaget Volvo | Ingersoll-Rand Company | Dresser-Rand Company.
20004972 | Entravision Communications Corporation | Martin W. Hoffman, Trustee in Bankruptcy for Astroline | Astroline Communications Company, Limited Partnership.
20004976 | Cumberland Swan Holdings, Inc | Benjamin Ansehl Company | Benjamin Ansehl Company.
20004977 | Zoran Corporation | Nogatech, Inc | Nogatech, Inc.
20004979 | The Bryce Company, L.L.C | Simpro Holding Corporation, Ltd | Simpro Films Corporation, JP Pack Holdings, Inc.
20004984 | Mr. William E. Sagan | HealthPlan Services Corporation | HealthPlan Services Corporation.
20004985 | CH Energy Group, Inc | National Grid Group PLC | AllEnergy Marketing Company, L.L.C.
20004986 | The Goldman Sachs Group, Inc | SLKLLC | SLKLLC.
20004989 | Patterson Energy, Inc | Ambar, Inc | Fluid Services Division.
Transactions Granted Early Termination—09/27/2000
20001806 | The Boeing Company | General Motors Corporation | Hughes Space and Communications Company, Spectrolab, Inc.
20004755 | CGW Southeast Partners IV, L.P | Mail-Well, Inc | Jen-Coat, Inc.
20004969 | Citizens Communications Company | Qwest Communications International Inc | Qwest Communications International Inc.
20004995 | Siemens Aktiengesellschaft | PSI Group, Inc | PSI Group, Inc.
20004996 | DSM N.V | Catalytica, Inc | Catalytica, Inc.
20004999 | Fenway Partners Capital Fund II, L.P | HW Holdings, Inc | HW Holdings, Inc.
20005003 | Shahid R. Khan | Jay Alix | Peregrine Metalforming, Inc.
20005004 | Sunburst Dallas, L.P | Salem Communications Corp | Salem Communications Corp.
20005005 | Salem Communications Corp | Sunburst Dallas, L.P | Sunburst Dallas, L.P.
20005006 | AXA | IP Communications, Inc | IP Communications, Inc.
20005007 | Private Equity Investors IV, L.P | IP Communications, Inc | IP Communications, Inc.
20005009 | NUI Corporation | Virginia Gas Company | Virginia Gas Company.
20005010 | Gerald T. Vento | Poka Lambro Telephone Cooperative, Inc | Poka Lambro Telephone Cooperative, Inc.
Transactions Granted Early Termination—09/28/2000
20004458 | Republic Services, Inc | Allied Waste Industries, Inc | Allied Waste Industries, Inc.
20004785 | ADC Telecommunications, Inc | Broadband Access Systems, Inc | Broadband Access Systems, Inc.
20004805 | Broadcom Corporation | Newport Communications, Inc | Newport Communications, Inc.
20004879 | Paxton Media Group, Inc | Hollinger Inc | American Publishing Company of Indiana, American Publishing Company of Michigan, APAC-95 Texas Holdings Inc., Hollinger International Inc.
20004883 | Advocate Healthcare Network | Illinois Masonic Medical Center | Illinois Masonic Medical Center.
20004950 | Dominion Resources, Inc | National Grid Group plc | New England Power Company.
20004951 | Dominion Resources, Inc | UIL Holdings Corporation | UIL Holdings Corporation.
20004952 | Dominion Resources, Inc | Northeast Utilities | New England Power Company.
20004982 | SSCI Investors LP | NS Group, Inc | Imperial Adhesives, Inc.
20004990 | Citigroup Inc | MSX International, Inc. | MSX International, Inc.
20004992 | Dominion Resources, Inc | Energy East Corporation | New England Power Company.
20005011 | Thomas H. Sullivan | Poka Lambro Telephone Cooperative, Inc | Poka Lambro Telephone Cooperative, Inc.
20005013 | Applied Micro Circuits Corp | MMC Networks, Inc | MMC Networks, Inc.
20005014 | Edward P. Roski, Jr | Park Place Entertainment Corporation | LVH Corporation.
20005015 | McWane, Inc | Brunner Engineering & Mfg., Inc | Brunner Engineering & Mfg., Inc.
20005016 | Celltech Group Plc | Cistron Biotechnology, Inc | Cistron Biotechnology, Inc.
20005019 | Clear Channel Communications, Inc | Clifford N. Burnstein | Atmosphere Broadcasting Limited Partnership.
20005020 | Clear Channel Communications, Inc | Peter D. Mensch | Atmosphere Broadcasting Limited Partnership.
20005021 | Carlyle Partners III, L.P | Gentiva Health Services Inc | Olsten Flying Nurses Corp., Olsten Health Services (Staffing) Inc.
20005022 | SCF-III, L.P | SCF-IV, L.P | Sooner, Inc.
20005023 | SCF-IV, L.P | SCF-III, L.P | Oil States International, Inc.
20005055 | Dan L. Duncan | Dixie Pipeline Company | Dixie Pipeline Company.
Transactions Granted Early Termination—09/29/2000
20001668 | Agrium Inc | Unocal Corporation | Alaska Nitrogen Products LLC, Prodica LLP.
20003720 | Novartis AG | Wesley Jessen VisionCare, Inc | Wesley Jessen VisionCare, Inc.
20004803 | Charles T. Angell | A.M. Todd Group, Inc | Flavorite Laboratories, Inc.
20004832 | Titan Cement Company S.A | Anglo American PLC | Tarmac America, Inc.
20004835 | Vulcan Materials Company | Titan Cement Company S.A | Tarmac America, Inc., Tarmac, Inc.
20004885 | Penton Media, Inc | First Communications, Inc | Professional Trade Shows, Inc., PTS Delaware, Inc.
20005012 | The Hearst Trust | WMUR-TV, Inc | WMUR-TV, Inc.
20005024 | FCCI Mutual Insurance Holding Company | Monroe Guaranty Companies, Inc | Monroe Guaranty Companies, Inc.
20005027 | Ciba Specialty Chemicals Holdings Inc | Cytec Industries, Inc | Cytec Industries, Inc.
20005028 | Dr. Yogi Bhardwaj | USX Corporation | Speedway SuperAmerica LLC.
20005031 | 2000 Riverside Capital Appreciation Fund L.P | Aurora Equity Partners L.P | ATC Distribution Group, Inc.
20005032 | Carlyle Partners III, L.P | IntelStaf Holdings, Inc | IntelStaf Holdings, Inc.
20005034 | The MONY Group, Inc | The Advest Group, Inc | The Advest Group, Inc.
20005040 | Peguot Private Equity Fund II, L.P | US Search.Com Inc | US Search.Com Inc.
20005041 | American International Group, Inc | HSB Group, Inc | HSB Group, Inc.
20005048 | Kerry Group plc | ConAgra, Inc | ConAgra, Inc.
20005051 | Softbank Technology Ventures VI, L.P | TeraBeam Networks, Inc | TeraBeam Networks, Inc.
20005052 | SOFTBANK Corp | TeraBeam Networks, Inc | TeraBeam Networks, Inc.
20005053 | Teligent, Inc | Executive Conference, Inc | Executive Conference, Inc.
20005057 | Enron Corp | HSB Group, Inc | Integrated Process Technologies, L.L.C.
20005065 | Quokka Sports, Inc | Total Sports Inc | Total Sports Inc.
20005066 | Coachmen Industries, Inc | Miller Building Systems, Inc | Miller Building Systems, Inc.
20005067 | WPS Resources Corporation | Wisconsin River Power Company | Wisconsin River Power Company.
20005068 | Salzgitter AG | Vodafone Group Plc | Mannesmannrohren-Werke.
20005083 | Arrow Electronics, Inc | Stonington Capital Appreciation 1994 Fund, L.P | Merisel Open Computing Alliance, Inc.
20005085 | H Group Holding, Inc | Eli Lilly and Company | Eli Lilly and Company.
20005102 | CGW Southeast Partners IV, L.P | CapeSuccess LLC | CapeSuccess LLC.
20005125 | Harbin Clinic, LLC | PhyCor, Inc | PhyCor, Inc.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 00-29054 Filed 11-13-00; 8:45 am]

BILLING CODE 6750-01-M